DEPARTMENT OF COMMERCE

National Oceanic and Atmospheric Administration

Notice of Availability of a Draft Programmatic Environmental Impact Statement for Surveying and Mapping Projects in U.S. Waters for Coastal and Marine Data Acquisition

AGENCY: National Ocean Service (NOS), National Oceanic and Atmospheric Administration (NOAA), Department of Commerce (DOC).

ACTION: Notice of availability of a draft programmatic environmental impact statement; request for comments.

SUMMARY: The National Oceanic and Atmospheric Administration (NOAA), National Ocean Service (NOS) has prepared a draft programmatic environmental impact statement (PEIS) in accordance with the National Environmental Policy Act of 1969, as amended (NEPA), to analyze the potential environmental impacts associated with NOS's recurring data collection projects to characterize submerged features (e.g., habitat, bathymetry, marine debris). The “action area” for these projects encompasses United States (U.S.) rivers, states' offshore waters, the U.S. territorial sea, the contiguous zone, the U.S. Exclusive Economic Zone (U.S. EEZ), and coastal and riparian lands. As a part of the Proposed Action, NOS may use active acoustic equipment such as sub-bottom profilers, single beam and multibeam echo sounders, side-scan sonars, and Acoustic Doppler Current Profilers. The Draft PEIS analyzes NOS data collection projects for a time period of 6 years. Publication of this document begins the 60-day public comment period for the Draft PEIS.

DATES: Written comments on the Draft PEIS will be accepted on or before August 24, 2021.

ADDRESSES: The Draft PEIS can be viewed or downloaded from the NOS website at https://oceanservice.noaa.gov/about/environmental-compliance/surveying-mapping.html. You may submit comments on this document, identified by NOAA-NOS-2021-0055, by any of the following methods:

• Electronic Submission: Submit all electronic public comments via the Federal e-Rulemaking Portal. Go to https://www.regulations.gov and enter NOAA-NOS-2021-0055 in the Search box. Click on the “Comment” icon, complete the required fields, and enter or attach your comments.

• Mail: Please direct written comments to DOC/NOAA/NOS Environmental Compliance Coordinator, SSMC4-Station 13612, 1305 East West Highway, Silver Spring, MD 20910.

• Email: nosaa.ec@noaa.gov.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

FOR FURTHER INFORMATION CONTACT: Giannina DiMaio, DOC/NOAA/NOS, Environmental Compliance Coordinator, SSMC4-Station 13612, 1305 East West Highway, Silver Spring, MD 20910, nosaa.ec@noaa.gov, 240-533-0918.

SUPPLEMENTARY INFORMATION: The Proposed Action analyzed in the Draft PEIS is to continue NOS's surveying and mapping projects throughout the action area. The Draft PEIS has been prepared to: (1) Inform NOS and the public on the physical, biological, economic, and social impacts of NOS mapping and surveying projects; and (2) assist NOS in deciding how to execute its mapping and surveying program over the next 6 years.

The Draft PEIS assesses the direct, indirect, and cumulative environmental impacts of a suite of surveying and mapping data collection activities. NOS initially planned to address the environmental impacts of the Proposed Action through a Programmatic Environmental Assessment (PEA) and published a Notice of Intent to prepare a PEA in the Federal Register on December 19, 2016 (81 FR 91921). However, during preparation of the PEA, NOS determined that NOS and the public would be better served through the Environmental Impact Statement process due to the geographic scope of the mapping program and the complexities of the analysis.

The purpose of the Proposed Action is to gather accurate and timely data on the marine and coastal environment. The need for the Proposed Action is to ensure safety at sea, economic well-being, and the efficient stewardship of public trust resources. NOS projects would include surveys performed from crewed vessels and remotely-operated or autonomous vehicles, operated by NOS field crews, contractors, grantees, or permit/authorization holders. NOS may use echo sounders and other active acoustic equipment and employ other equipment, including bottom samplers and conductivity, temperature, and depth instruments to collect the needed data. A project could also involve supporting activities, such as the use of divers and the installation of tide buoys.

The Draft PEIS evaluates three alternatives:

• Alternative A—No Action: Under Alternative A, NOS would continue to operate a variety of equipment and technologies to gather accurate and timely data on the nature and condition of the marine and coastal environment. This alternative reflects the technology, equipment, scope, and methods currently in use by NOS, at the level of effort reflecting NOS fiscal year 2019 funding levels. (NOS operations were widely disrupted during the 2020 field season due to the COVID-19 pandemic. Therefore, the PEIS relies on 2019 as the baseline year for Alternative A, as it is the most recent example of typical field operations that would be enacted if NOS chose to continue historical levels of project effort.)

• Alternative B: This alternative consists of Alternative A plus the more widespread adoption of new techniques and technologies (such as remotely operated vehicles (ROVs), microwave water level (MWWL) radar sensors, etc.) to more efficiently perform surveying, mapping, charting and related data gathering. Specific examples of adaptive methods and equipment that NOS programs are likely to adopt under Alternative B in the next 6 years include:

○ Greater use of ROVs with echo sounder technologies;

○ Greater use of autonomous underwater vehicles (AUVs) and autonomous surface vehicles (ASVs) with echo sounder technologies;

○ Conversion of one or more existing 10-m (33 feet) crewed survey boats into ASVs;

○ Greater use of more efficient, wide-beam sonar systems (phase-differencing bathymetric systems) for nearshore hydrographic surveys;

○ Increased field operations in the National Marine Sanctuary system with associated requirements for hydroacoustic charting, surveying, mapping and associated activities; and

○ Installation, operation, and maintenance of additional water level stations including transitioning to mostly MWWL radar sensors and upgraded storm strengthening to make stations more climate resilient.

Under Alternative B, all of the activities and equipment operation described in Alternative A would continue, many at a higher level of effort. The nature of these actions would not change, but the overall level of activity would be increased.

• Alternative C: Like Alternative B, Alternative C adopts new techniques and technologies to encourage greater program efficiencies regarding surveying, mapping, charting, and related data gathering activities. In addition, Alternative C would consist of NOS program implementation with an overall funding increase of 20 percent relative to Alternative B. Under Alternative C, all of the activities and equipment operation described in Alternative B would continue, many at a higher level of effort. The nature of these actions would not change, but the overall level of activity would be augmented.

NOS will initiate consultations under the Endangered Species Act (ESA), the Marine Mammal Protection Act (MMPA), the Magnuson-Stevens Fishery Conservation and Management Act, and the National Marine Sanctuaries Act following publication of the Draft PEIS. NOS will also complete the required analysis and documentation to comply with Section 106 of the National Historic Preservation Act and Section 307 of the Coastal Zone Management Act.

The purpose of this NOA is to invite affected government agencies, non-governmental organizations, tribes and tribal organizations, and interested members of the public to participate in the Draft PEIS process and provide comments on the structure, contents, and analysis in the Draft PEIS. The official public review and comment period ends on August 24, 2021. Please visit the project web page for additional information regarding the program: https://oceanservice.noaa.gov/about/environmental-compliance/surveying-mapping.html.

Authority: The preparation of the Draft PEIS was conducted in accordance with the requirements of NEPA, the Council on Environmental Quality's Regulations (40 CFR 1500 et seq. (1978)), other applicable regulations, and NOAA's policies and procedures for compliance with those regulations. While the CEQ regulations implementing NEPA were revised as of September 14, 2020 (85 FR 43304, Jul. 16, 2020), NOS prepared this Draft PEIS using the 1978 CEQ regulations because this environmental review began on December 19, 2016, when NOS published a Notice of Intent to conduct scoping and prepare a Draft Programmatic Environmental Assessment. Written comments must be received on or before August 24, 2021.

Paul M. Scholz,
Acting Deputy Assistant Administrator for Ocean Services and Coastal Zone Management, National Ocean Service.

[FR Doc. 2021-13361 Filed 6-24-21; 8:45 am]

BILLING CODE 3510-JE-P